DEPARTMENT OF JUSTICE

Antitrust Division

Notice Pursuant to the National Cooperative Research and Production Act of 1993—Center for Waste Reduction Technologies (CWRT): Solvent Selection Guide

Notice is hereby given that, on February 7, 2002, pursuant to section 6(a) of the National Cooperative Research and Production Act of 1993, 15 U.S.C. et seq. (“the Act”), CWRT: Solvent Selection Guide has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Center for Waste Reduction Technologies (“CWRT”), New York, NY; Cytec Industries Inc., West Paterson, NJ; The Dow Chemical Company, Midland, MI; E.I. du Pont de Nemours & Company, Wilmington, DE; GalxoSmithKline, King of Prussia, PA; Pharmacia, Peapack, NJ; Pfizer Corporation, New London, CT; and Rohm and Haas Company, Philadelphia, PA. The nature and objectives of the venture are to develop solvent selection tools to facilitate the selection of solvent candidates in early compound development, make life cycle EHS impacts/issues visible for each solvent candidate, facilitate process optimization in late compound development, explore solvent mixtures that do not introduce additional complexity into managing solvents, and explore designer solvent possibilities.

Constance K. Robinson,
Director of Operations, Antitrust Division.

[FR Doc. 02-7028 Filed 3-22-02; 8:45 am]

BILLING CODE 4410-11-M